NUCLEAR REGULATORY COMMISSION

[Docket No. 50-344]

Portland General Electric Co., et al., Trojan Nuclear Plant, Notice of Consideration of Issuance of Amendment to Facility Operating License and Opportunity for a Hearing; Correction

AGENCY: Nuclear Regulatory Commission.

ACTION: Notice of Issuance; Correction.

SUMMARY: This document corrects a notice appearing in the Federal Register on November 12, 2002 (67 FR 68748), regarding issuance of an amendment to Facility Operating License No. NPR-1, issued to Portland General Electric Company, et al. This action is necessary to correct omission of the Amendment Number.

FOR FURTHER INFORMATION CONTACT: John Minns, Office of Nuclear Reactor Regulation, Nuclear Regulatory Commission, Washington, DC 20555-0001, telephone: 301-415-3166, e-mail: jlm3@nrc.gov.

SUPPLEMENTARY INFORMATION: On page 68748, in the third column, after the paragraph beginning with Effective Date, a separate paragraph should read: “Amendment No.: 208.”

Dated in Rockville, Maryland, this 22nd day of November, 2002.
For the U.S. Nuclear Regulatory Commission.
John L. Minns,
Project Manager, Section 1, Project Directorate IV, Division of Licensing Project Management, Office of Nuclear Reactor Regulation.

[FR Doc. 02-30267 Filed 11-27-02; 8:45 am]

BILLING CODE 7590-01-P